FEDERAL COMMUNICATIONS COMMISSION

47 CFR Part 73

[DA 09-41]

Radio Broadcasting Services; Various Locations

AGENCY: Federal Communications Commission.

ACTION: Final rule.

SUMMARY: The Commission, on its own motion, editorially amends the Table of FM Allotments to specify the noncommercial educational (NCE) “star” designation for several FM channels and classes as allotted to various communities in several FM allotment rulemaking proceedings.

DATES: Effective February 4, 2009.

FOR FURTHER INFORMATION CONTACT: Rolanda F. Smith, Media Bureau, (202) 418-2180.

SUPPLEMENTARY INFORMATION: This is a summary of the Commission's Report and Order, adopted January 14, 2009, and released January 16, 2009. These amendments are necessary to reflect changes that have been authorized in response to FM allotment rule making proceedings to which the NCE “star” designation as listed for various communities was inadvertently removed from Section 73.202(b), FM Table of Allotments by the Revision of Procedures Governing Amendments to FM Table of Allotments and Changes of Community of License in the Radio Broadcast Services 71 FR 76208, published December 20, 2006. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

As stated in the preamble, the Federal Communications Commission amends 47 CFR Part 73 as follows:

PART 73—RADIO BROADCASTING SERVICES

1. The authority citation for Part 73 continues to read as follows:

Authority: 47 U.S.C. 154, 303, 334, 336.

§ 73.202 [Amended]

2. Section 73.202(b), the Table of FM Allotments under California, is amended by removing Channel 277C3 and by adding Channel *277C3 at McKinleyville.

3. Section 73.202(b), the Table of FM Allotments under Indiana, is amended by removing Channel 291A and by adding Channel *291A at Fowler; and by removing Channel 298B and by adding Channel *298B at Terre Haute.

4. Section 73.202(b), the Table of FM Allotments under New York, is amended by removing Channel 221A and by adding Channel *221A at Amherst.

5. Section 73.202(b), the Table of FM Allotments under North Carolina, is amended by removing Channel 237A and by adding Channel *237A at Dillsboro.

6. Section 73.202(b), the Table of FM Allotments under North Dakota, is amended by removing Channel 264C and by adding Channel *264C at Berthold.

7. Section 73.202(b), the Table of FM Allotments under Pennsylvania, is amended by removing Channel 227A and by adding Channel *227A at Susquehanna.

8. Section 73.202(b), the Table of FM Allotments under Virgin Islands, is amended by adding Channel *226A at Charlotte Amalie.

Federal Communications Commission.
John A. Karousos,
Assistant Chief, Audio Division, Media Bureau.

[FR Doc. E9-2397 Filed 2-3-09; 8:45 am]

BILLING CODE 6712-01-P